DEPARTMENT OF DEFENSE

48 CFR Part 252

Defense Federal Acquisition Regulation Supplement; Technical Amendments

AGENCY: Department of Defense (DoD).

ACTION: Final rule.

SUMMARY: DoD is making technical amendments to a Defense Federal Acquisition Regulation Supplement clause addressing unique identification and valuation of items delivered under DoD contracts. The amendments clarify cross-references and correct an Internet address.

DATES: Effective June 21, 2005.

FOR FURTHER INFORMATION CONTACT: Ms. Michele Peterson, Defense Acquisition Regulations System, OUSD(AT&L)DPAP(DAR), IMD 3C132, 3062 Defense Pentagon, Washington, DC 20301-3062. Telephone (703) 602-0311; facsimile (703) 602-0350.

List of Subjects in 48 CFR Part 252

Government procurement.

Michele P. Peterson,
Editor, Defense Acquisition Regulations System.

Therefore, 48 CFR Part 252 is amended as follows:

PART 252—SOLICITATION PROVISIONS AND CONTRACT CLAUSES

1. The authority citation for 48 CFR Part 252 continues to read as follows:

Authority: 41 U.S.C. 421 and 48 CFR Chapter 1.

252.211-7003 [Amended]

2. Section 252.211-7003 is amended as follows:

a. By revising the clause date to read “(JUN 2005)';

b. In paragraph (c)(3)(i)(C), in the second sentence, by removing “http://www.acq.osd.mil/dpap/UID/guides.html” and adding in its place “http://www.acq.osd.mil/dpap/UID/guides.htm'';

c. In paragraph (d) introductory text, by adding “(1)(i) or (ii)” after “paragraph (c)”; and

d. In paragraph (e) introductory text, by removing “Embedded DoD serially managed subassemblies, components, and parts. The” and adding in its place “For embedded DoD serially managed subassemblies, components, and parts that require unique item identification under paragraph (c)(1)(iii) of this clause, the''.

[FR Doc. 05-12095 Filed 6-20-05; 8:45 am]

BILLING CODE 5001-08-P